DEPARTMENT OF THE INTERIOR

National Park Service

National Register of Historic Places; Notification of Pending Nominations

Nominations for the following properties being considered for listing in the National Register were received by the National Park Service before March 11, 2000. Pursuant to section 60.13 of 36 CFR part 60 written comments concerning the significance of these properties under the National Register criteria for evaluation may be forwarded to the National Register, National Park Service, 1849 C St. NW, NC400, Washington, DC 20240. Written comments should be submitted by April 5, 2000.

Beth Boland,
Acting Keeper of the National Register.

ARIZONA

Coconino County: Grand Canyon Railway, From Williams, AZ, to Grand Canyon National Park, Williams, 00000319

ARKANSAS

Phillips County: Maple Hill Cemetery, N. Holly St., Helena, 00000318

CALIFORNIA

Mono County: Yellow Jacket Petroglyphs, Address Restricted, Bishop, 00000321

San Mateo County: Coxhead, Ernest, House, 37 E. Santa Inez Ave.,

San Mateo, 00000322

Stanislaus County: First National Bank of Oakdale Building, 338 East F St., Oakdale, 00000320

COLORADO:

Phillips County: Reimer—Smith Oil Station, 109 S. Campbell Ave, Holyoke, 00000323

CONNECTICUT

Fairfield County: Fourth Ward Historic District, Roughly along Church, Division, Northfield and William Sts.; and Putnam Court and Sherwood Place, Greenwich, 00000324

New Haven County: Birmingham Green Historic District, Roughly bounded by Fifth, Caroline, Fourth and Olivia Sts., Derby, 00000325

IDAHO

Idaho County: Big Creek Commissary, Yellow Pine, Payette National Forest, Big Creek, 00000327

IOWA

Emmet County: Brugield—Peterson Family Farmstead District, 2349 450th Ave., Wallingford, 00000326

KANSAS

Washington County: Washington County Courthouse, 214 C St.,

Washington, 00000328

LOUISIANA

Natchitoches Parish: Jones, John Carroll, House, (Louisiana's French Creole Architecture MPS) 473 LA 484, Natchez, 00000329

MISSISSIPPI

Bolivar County: Rosedale Historic District, Roughly along Main, Front, and Levee Sts., from Elizabeth Ave. to Brown St., Rosedale, 00000331

Jackson County: Pascagoula High School, Old, 2903 Pascagoula St., Pascagoula, 00000330

Madison County: Mt. Zion Baptist Church, 514 West North St., Canton, 00000333

Winston County: Foster—Fair House, 507 S. Columbus Ave.,

Louisville, 00000332

MISSOURI

Jackson County: Pilgrim Lutheran Church for the Deaf of Greater Kansas City and Parsonage, 3801-3807 Gilham Rd., Kansas City, 00000334

MONTANA

Missoula County: Mrs. Lydia McCaffery's Furnished Rooms, (Missoula MPS) 501 West Alder, Missoula, 00000335

NEVADA

Douglas County: Farmers' Bank of Carson Valley, 1596 Esmeralda Ave., Minden, 00000338

Washoe County:

Nystrom Guest House, 333 Ralston St., Reno, 00000339

Peavine Ranch, 11220 N. Virginia St., Reno, 00000337

Twaddle—Pedroli Ranch, 4970 Susan Lee Circle, Washoe Valley, 00000340

Withers Log Home, 344 Wassou, Crystal Bay, 00000341

NEW MEXICO

Rio Arriba County: Tierra Amarilla AFS P-8 Historic District, 9.0 mi. SE of Tierra Amarilla on NM 112, Tierra Amarilla, 00000342

NEW YORK

Greene County:

Fischel, Harry, House, 6302 Main St., Hunter, 00000348

Halcott Grange No. 881, Cty Rte. 3, Halcott, 00000351

Livingston County: Hemlock Fairground, East Ave., Hemlock, 00000347

Onondaga County: Southwood Two-Teacher School, 4621 Barker Hill Rd., Jamesville, 00000349

Orange County: Brotherhood Winery, Brotherhood Plaza, Washingtonville, 00000345

Rockland County:

Hopper, Edward, Birthplace and Boyhood Home, 82 North Broadway, Nyack, 00000352

Sloat's Dam and Mill Pond, Off of Station Rd., Sloatsburg, 00000344

Wayside Chapel, Former, 24 River Rd., Grand View-On-Hudson, 00000346

Sullivan County: Cochecton Center Methodist Episcopal Church, Skipperdine Rd., Cochecton Center, 00000343

Wyoming County: Epworth Hall, Perry Ave., Perry, 00000350

NORTH CAROLINA

Buncombe County: Fire Station Number 4, 300 Merrimon Ave., Asheville, 00000336

TENNESSEE

Williamson County: Roper's Knob Fortifications, (Civil War Historic and Historic Archeological Resources in Tennessee MPS) Off Liberty Pike, Franklin, 00000353

UTAH

Iron County: Lyman, William and Julia, House, 191 S. Main St., Parowan, 00000355

Salt Lake County: Green, Alvin and Annie, House, (Sandy City MPS) 8400 Danish Rd., Sandy, 00000356

Uintah County: Carter Road, Ashby National Forest, Ashby National Forest, 00000354

Utah County: Cedar Fort School, 40 E. Center St., Cedar Fort, 00000357

VERMONT

Caledonia County: Building at 143 Highland Avenue, 143 Highland Ave., Hardwick, 00000358

WISCONSIN

Dane County: Sun Prairie Water Tower, Jct. of Columbus, Church and Cliff Sts., Sun Prairie, 00000360

Green County: Chicago, Milwaukee and Saint Paul Railroad Depot, 418 Railroad St., New Glarus, 00000359

On March 13, 2000, the following resource was removed from the National Register of Historic Places; determined eligible for the National Register of Historic Places:

PENNSYLVANIA

Greene County: Kent, Thomas, Jr. Farm 208 Laurel Run Rd., Waynesburg, 98000444

[FR Doc. 00-6911 Filed 3-20-00; 8:45 am]

BILLING CODE 4310-70-P